DEPARTMENT OF HEALTH AND HUMAN SERVICES

Centers for Disease Control and Prevention

[60Day-14-14GB]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-7570 or send comments to LeRoy Richardson, 1600 Clifton Road, MS-D74, Atlanta, GA 30333 or send an email to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Become a Partner—New—Office of Public Health Preparedness and Response (OPHPR), Centers for Disease Control and Prevention (CDC).

Background and Brief Description

The Office of Public Health Preparedness and Response (OPHPR) provide strategic direction, ongoing support, and coordination for CDC's portfolio of emergency preparedness and response activities. CDC and OPHPR work every day to keep America safe from all-hazards, focusing on chemical, biological, radiological and nuclear (CBRN) as well as naturally-occurring threats, both foreign and domestic.

OPHPR's mission is critically dependent on effectively engaging outside partners to maximize resources and overall impact. Therefore, OPHPR seeks ways to improve its current partner strategy to engage new partners. Forging strategic alliances with diverse stakeholders is critical as OPHPR works to keep America safe from all health, safety, and security threats. Health security is a national challenge that calls for a national, whole community solution.

New partners who do not have an explicit mission statement related to public health preparedness and response are difficult to identify; therefore, OPHPR must use a creative method that allows groups and individuals to self-identify their interest in partnerships—such as an online form housed on CDC's public Web site. By identifying new partners, OPHPR will strengthen its ability to collaborate with a broader audience of stakeholders thereby, strengthening our collective voice on public health preparedness issues to keep our nation's health secure. OPHPR will use the information submitted through this online form to determine who in our agency would be the best liaison for this potential partner, and then follow up on this information with a phone call to further assess how we can begin building and effectively managing this new relationship.

CDC requests Office of Management and Budget (OMB) approval to collect information for three years.

Description

The “Become a Partner” template is a single, double-sided page that will be used as an online form for anyone voluntarily exploring how to partner with OPHPR. This form will dramatically reduce the burden on respondents and employees by allowing self-identification of partnership interests and collecting information to determine partnership needs and opportunities. The questions in the form specifically request name, address, phone, email, Web site, and a combination of five questions related to partnership interests. The questions asked will help determine if the interested party wants to receive information available through OPHPR, if they want to exchange information that is mutually beneficial for cross-promotion, if they coordinate any activities that support public health preparedness, and if they offer additional services to support public health (not already listed above). Finally, they will be asked to identify the most relevant partnership interests within OPHPR categories.

Ultimately, the form will allow OPHPR to identify and then engage interested partners in meaningful collaborations for the purpose of expanding, enhancing and sustaining public health preparedness and response infrastructure.

We estimate a total of 200 external governmental and non-governmental organizational respondents annually. The “Become a Partner” questionnaire is estimated to take 15 minutes and the “Become a Partner” follow-up questionnaire is estimated to take 30 minutes to complete. Therefore, the total estimated annualized burden for this information collection is estimated to be 75 hours.

There are no costs to respondents other than their time.

Estimated Annualized Burden Hours
Type of respondents | Form name | Number of respondents | Number of responses per respondent | Avg. burden per response (in hrs.) | Total burden (in hrs.)
External governmental and non-governmental organizations including non-profit organizations, trade associations, academic and research institutions, and the private sector | Become a Partner | 100 | 1 | 15/60 | 25
External governmental and non-governmental organizations including non-profit organizations, trade associations, academic and research institutions, and the private sector | Become a Partner Follow-Up Questions | 100 | 1 | 30/60 | 50
Total |  |  |  | 75

LeRoy Richardson,
Chief, Information Collection Review Office, Office of Scientific Integrity, Office of the Associate Director for Science, Office of the Director, Centers for Disease Control and Prevention.

[FR Doc. 2014-00006 Filed 1-6-14; 8:45 am]

BILLING CODE 4163-18-P